DEPARTMENT OF THE INTERIOR

Fish and Wildlife Service

50 CFR Part 91

[1018-AU94]

Revision of Federal Duck Stamp Contest Regulations

AGENCY: Fish and Wildlife Service, Interior.

ACTION: Proposed rule.

SUMMARY: We, the Fish and Wildlife Service (Service, or we), propose to revise the regulations governing the annual Migratory Bird Hunting and Conservation Stamp Contest [also known as the Federal Duck Stamp Contest (contest)]. We propose a special exemption that would allow recent winning artists to submit entries for the 2007 contest. We also propose to codify our longstanding practice of limiting judges to only one term. We also propose to clarify in our regulations our longstanding practice to include artwork from the third round of judging in an art tour for a year; early return of the artwork to the artist will make the artist ineligible for the next three (3) contests. Finally, we propose to clean up grammatical errors in the contest procedures.

DATES: To ensure our consideration, we must receive your comments on this proposal by October 27, 2006.

ADDRESSES: For information on requirements for submitting or viewing comments, see “Public Comments Solicited” under SUPPLEMENTARY INFORMATION.

FOR FURTHER INFORMATION CONTACT: Patricia Fisher, Chief, Federal Duck Stamp Office, (703) 358-2000 (phone), duckstamps@fws.gov (e-mail), or (703) 358-2009 (fax).

SUPPLEMENTARY INFORMATION: We propose to revise the regulations governing the annual Migratory Bird Hunting and Conservation Stamp Contest [also known as the Federal Duck Stamp Contest (contest)]. We propose a special exemption that would allow winning artists from the 2004-06 contests to submit entries for the 2007 contest. We also propose to codify our longstanding practice of limiting judges to one term. We also propose to clarify in our regulations our longstanding practice to include artwork from the third round of judging in an art tour for a year, and make it clear that early return of the artwork to the artist will make the artist ineligible for the next three (3) contests. Finally, we propose to clean up grammatical errors in the contest procedures. We do not believe our proposed changes have much impact on the body of the regulations, because they relieve restrictions on the public, clarify existing and new practices, or make corrections. Therefore we believe 30 days will allow the public sufficient time to review and respond to our proposed changes. The public will benefit from having final regulations in place well in advance of our June 2007 contest opening date.

Background

For the history of the Federal Duck Stamp Program and the contest, please see our proposed rule for a previous unrelated change to the duck stamp regulations (April 12, 2006, 71 FR 18697).

Proposed Changes

The regulations governing the contest are at 50 CFR part 91.

Exemption for Winning Artists

Section 91.12 contains a 3-year prohibition against winning artists participating in the three successive contests. We put this rule into place as a way to ensure that a variety of artists can compete fairly and to avoid allowing a single individual to repeatedly win the contest. However, we want to exempt the 2007 contest from this rule, because the 2007 contest marks an important milestone, since it will choose the 75th Federal Duck Stamp. This significant event will be very important for all wildlife artists, and we should therefore allow everyone an equal chance to compete. We propose that this prohibition be lifted for the 2007 contest only. We further propose that this exemption will not be counted towards the remainder of the waiting period for 2004-06 winning artists. These recent winning artists must complete their waiting periods in full and will have to serve the remainder of their terms after the 2007 contest. Two examples follow.

1. Ann wins the 2006 contest. She may enter the special 2007 contest. Regardless of whether she wins 2007 or not, she is ineligible to enter in 2008, 2009, or 2010. She may enter in 2011.

2. Bob wins the 2005 contest. He was ineligible to enter the 2006 contest. He may enter the special 2007 contest. Regardless of whether he wins 2007 or not, he is ineligible to enter in 2008 or 2009, but he may enter in 2010.

Judges Serve for One Contest

Section 91.21 specifies the selection and qualifications necessary for contest judges. One practice that has been in effect for the past 40 years, but which is not in the regulations, is that we have limited judges to serve for only one contest. This practice allows more people to serve as judges, provides a greater range of possible judges, and prevents any possible collusion between judges and artists. We now propose to codify this longstanding existing practice into the CFR.

Contest Procedures

Section 91.24 paragraphs (g) and (h) have typographical errors. We would like to correct the errors in our presentation of the possible numerical scores that can be awarded by judges.

Post-Contest Finalists' Tour

Section 91.31 specifies the return of artwork after the contest has concluded. We would like to clarify the portion of the regulations that mentions the possibility of the artwork being sent on a tour to appear at one or more wildlife art exhibitions. Recently artists believed that the 120-day limit was all that had to be honored. We would like to clarify this requirement.

The art tour is a chance for the public to see the finalists in the Federal Duck Stamp Contest. These are the entries that made it to the third and final round of judging. The tour travels to various locations across the country and allows the public to see some of the best examples of wildlife art. With the tour, we engage new artists to enter the contest and encourage the general public to purchase more stamps. Unfortunately, some artists have chosen to sell their pieces before or during the art tour and have requested to remove them from the tour. This lessens the quality of the paintings available for the public to view and is against the spirit of the tour. We would like to clarify that the tour lasts for 1 year after the date on which the winner is judged, and entries will be returned after the year is up. We also propose that artists who remove their artwork before the tour is complete will be ineligible to participate in the three successive contests.

Required Determinations

Regulatory Planning and Review (E.O. 12866)

This document is not a significant rule and is not subject to review by the Office of Management and Budget under Executive Order (E.O.) 12866.

1. This proposed rule would not have an annual effect of $100 million or more on the economy. It would not adversely affect in a material way the economy, productivity, competition, jobs, the environment, public health or safety, or State, local, or tribal governments or communities.

2. This proposed rule would not create a serious inconsistency or otherwise interfere with an action taken or planned by another agency. The rule deals solely with the Federal Duck Stamp Contest. No other Federal agency has any role in regulating this endeavor.

3. This proposed rule would not alter budgetary effects or entitlements, grants, user fees, or loan programs or the rights or obligations of their recipients. There are no entitlements, grants, user fees, or loan programs associated with the regulation of the Federal Duck Stamp Contest.

4. This proposed rule would not raise novel legal or policy issues. This is primarily a reorganization and clarification of existing regulations. New provisions proposed are in compliance with other laws, policies, and regulations.

Regulatory Flexibility Act

The Department of the Interior certifies that this document would not have a significant economic effect on a substantial number of small entities under the Regulatory Flexibility Act (RFA) (5 U.S.C. 601 et seq.). The changes we propose are intended primarily to clarify the requirements for the contest. These changes would affect individuals, not businesses or other small entities as defined in the RFA.

Small Business Regulatory Enforcement Fairness Act (SBREFA)

This proposed rule is not major under 5 U.S.C. 804(2), the Small Business Regulatory Enforcement Fairness Act. This proposed rule:

1. Would not have an annual effect on the economy of $100 million or more.

2. Would not cause a major increase in costs or prices for consumers; individual industries; Federal, State, or local government agencies; or geographic regions.

3. Would not have significant adverse effects on competition, employment, investment, productivity, innovation, or the ability of U.S.-based enterprises to compete with foreign-based enterprises.

Unfunded Mandates Reform Act

This proposed rule would not impose an unfunded mandate on State, local, or tribal governments or the private sector of more than $100 million per year. It would not have a significant or unique effect on State, local, or tribal governments or the private sector. A statement containing the information required by the Unfunded Mandates Reform Act (2 U.S.C. 1531 et seq.) is not required.

Takings (E.O. 12630)

In accordance with E.O. 12630, this proposed rule would not have significant takings implications. A takings implication assessment is not required.

Federalism (E.O. 13132)

In accordance with E.O. 13132, this proposed rule would not have sufficient Federalism implications to warrant the preparation of a Federalism Assessment. A Federalism Assessment is not required.

Civil Justice Reform (E.O. 12988)

In accordance with E.O. 12988, the Office of the Solicitor has determined that this proposed rule would not unduly burden the judicial system, and that it meets the requirements of sections 3(a) and 3(b)(2) of the Order.

Paperwork Reduction Act

This proposed rule does not contain new or revised information collections for which Office of Management and Budget (OMB) approval is required under the Paperwork Reduction Act. An agency may not conduct or sponsor and a person is not required to respond to a collection of information unless it displays a currently valid OMB control number.

National Environmental Policy Act

This proposed rule would not constitute a major Federal action significantly affecting the quality of the human environment. A detailed statement under the National Environmental Policy Act of 1969 (42 U.S.C. 4371 et seq.) is therefore not required.

Government-to-Government Relationship With Tribes

Under the President's memorandum of April 29, 1994, “Government-to-Government Relations with Native American Tribal Governments” (59 FR 22951), and 512 DM 2, we have evaluated possible effects on federally recognized Indian Tribes and have determined that there are no effects.

Energy Supply, Distribution or Use

On May 18, 2001, the President issued Executive Order 13211 on regulations that significantly affect energy supply, distribution, and use. Executive Order 13211 requires agencies to prepare Statements of Energy Effects when undertaking certain actions. This document proposes to revise the current regulations in 50 CFR part 91 that govern the duck stamp contest. This proposed rule is not expected to significantly affect energy supplies, distribution, and use. Therefore, this action is a not a significant energy action and no Statement of Energy Effects is required.

Clarity of This Regulation

E.O. 12866 requires each agency to write regulations that are easy to understand. We invite your comments on how to make this rule easier to understand, including answers to questions such as the following:

1. Are the requirements in the rule clearly stated?

2. Does the rule contain technical language or jargon that interferes with its clarity?

3. Does the format of the rule (grouping and order of sections, use of headings, paragraphing, and so forth) aid or reduce its clarity?

4. Would the rule be easier to understand if it were divided into more (but shorter) sections?

5. Is the description of the rule in the SUPPLEMENTARY INFORMATION section of the preamble helpful toward your understanding the proposed rule? What else could we do to make the rule easier to understand?

Send a copy of any comments that concern how we could make this rule easier to understand to: Office of Regulatory Affairs, Department of the Interior, Room 7229, 1849 C Street, NW., Washington, DC 20240. You may also e-mail the comments to this address: Exsec@ios.doi.gov.

Public Comments Solicited

We are asking the public, other concerned governmental agencies, the scientific community, industry, or any other interested party to comment on this proposed rule so that any final action resulting from this proposal will be as accurate and as effective as possible. Comments will become part of the Administrative Record for this rulemaking action. You may inspect comments at the hand-delivery address during normal business hours.

You may submit comments by any one of the following methods:

1. Federal Duck Stamp Web site: http://www.fws.gov/duckstamps. Follow the instructions for submitting comments.

2. E-mail: duckstamps@fws.gov.

3. Fax: 703-358-2009 to Chief, Federal Duck Stamp Office.

4. U.S. Mail: Chief, Federal Duck Stamp Office, U.S. Fish and Wildlife Service, 4401 North Fairfax Drive, Mail Stop MBSP-4070, Arlington, VA 22203-1622.

5. Hand Delivery: Federal Duck Stamp Office, U.S. Fish and Wildlife Service, 4501 North Fairfax Drive, Room 4070, Arlington, VA.

6. Federal eRulemaking Portal: http://www.regulations.gov. Follow the instructions for submitting comments.

Please submit e-mailed or Internet comments as an ASCII file, avoiding the use of special characters and any form of encryption. Please also include “Attn: 1018-AU94” and your name and return U.S. mail address in your e-mail message. If you do not receive a confirmation from the system that we have received your e-mail message, contact us directly at (703) 358-2000.

Our practice is to make comments, including names and home addresses of respondents, available for public review during regular business hours. Individual respondents may request that we withhold their home address from the rulemaking record, which we will honor to the extent allowable by law. There also may be circumstances in which we would withhold from the rulemaking record a respondent's identity, as allowable by law. If you wish us to withhold your name and/or address, you must state this prominently at the beginning of your comment. However, we will not consider anonymous comments. We will make all submissions from organizations or businesses, and from individuals identifying themselves as representatives or officials of organizations or businesses, available for public inspection in their entirety.

List of Subjects in 50 CFR Part 91

Hunting, Wildlife.

Proposed Regulation Promulgation

Accordingly, we propose to amend part 91, subchapter G of chapter I, title 50 of the Code of Federal Regulations, as set forth below:

PART 91—[AMENDED]

1. The authority citation for part 91 continues to read as follows:

Authority: 5 U.S.C. 301; 16 U.S.C. 718j; 31 U.S.C. 9701.

2. Revise § 91.12 to read as follows:

§ 91.12 Contest eligibility.

(a) U.S. citizens, nationals, or resident aliens are eligible to participate in the contest.

(b) Any person who has won the contest during the preceding 3 years will be ineligible to submit an entry in the current year's contest. For the 75th contest (2007) only, any artist, even those who won the 2005 and 2006 contests, may enter. However, 2005 and 2006 winners must still fulfill their 3-year ineligibility terms after the 2007 contest. The 2007 contest will not be counted toward fulfilling ineligibility terms of 2005 or 2006 winners.

(c) All entrants must be at least 18 years of age by the contest opening date (see § 91.11) to participate in the contest.

(d) Contest judges and their relatives are ineligible to submit an entry.

(e) All entrants must submit a nonrefundable fee of $125.00 by cashier's check, certified check, or money order made payable to U.S. Fish and Wildlife Service. Personal checks will not be accepted.

(f) All entrants must submit a signed Reproduction Rights Agreement and a signed Display and Participation Agreement.

3. Add a new paragraph (d) to § 91.21 to read as follows:

§ 91.21 Selection and qualification of contest judges.

* * * * *

(d) Term: Judges serve for the period of one contest only. No former judge will be eligible to serve in any successive contests.

4. Revise § 91.24 paragraph (g) and paragraph (h) to read as follows:

§ 91.24 Contest procedures.

* * * * *

(g) In the second round of judging, each entry selected in the first round, plus the additional entries selected by judges per paragraph (d) of this section, will be shown one at a time to the judges by the Contest Coordinator or by a contest staff member. Each judge will vote by indicating a numerical score of one (1), two (2), three (3), four (4), or five (5) for each entry. The scores will be totaled to provide each entry's score. The five entries receiving the five highest scores will be advanced to the third round of judging.

(h) In the third round of judging, the judges will vote on the remaining entries using the same method as in round two, except that they will indicate a numerical score of three (3), four (4), or five (5) for each entry. The Contest Coordinator will tabulate the final votes and present them to the Director, U.S. Fish and Wildlife Service, who will announce the winning entry as well as the entries that placed second and third.

* * * * *

5. Revise § 91.31 to read as follows:

§ 91.31 Return of entries after contest.

(a) All entries will be returned by certified mail to the participating artists within 120 days after the contest, unless the artwork is selected to appear at one or more wildlife art expositions. If artwork is returned to the Service because it is undelivered or unclaimed (this may happen if an artist changes address), the Service will not be obligated to trace the location of the artist to return the artwork. Any artist who changes his or her address is responsible for notifying the Service of the change. All unclaimed entries will be destroyed 1 year after the date of the contest.

(b) Artists in the third round of judging will be chosen to appear in a national art tour that will last 1 year. The artwork will be returned to the artists after that period in accordance with the signed participation agreement.

(c) An artist may choose to remove his or her artwork from the tour, but will forfeit contest eligibility for three (3) successive contests.

Dated: September 19, 2006.
David M. Verhey,
Acting Assistant Secretary for Fish and Wildlife and Parks.

[FR Doc. E6-15839 Filed 9-26-06; 8:45 am]

BILLING CODE 4310-55-P